OFFICE OF PERSONNEL MANAGEMENT

5 CFR Parts 330 and 351

RIN 3206-AJ18

Placement Assistance and Reduction in Force Notices

AGENCY: Office of Personnel Management.

ACTION: Interim regulations.

SUMMARY: The Office of Personnel Management is issuing interim placement assistance and reduction in force regulations to replace references to the repealed Job Training Partnership Act with references to the new Workforce Investment Act of 1998.

DATES: These regulations are effective November 27, 2000. Written comments will be considered if received no later than December 26, 2000.

ADDRESSES: Send written comments to Carol J. Okin, Associate Director for Employment, Office of Personnel Management, Room 6F08, 1900 E Street NW., Washington, DC 20415.

FOR FURTHER INFORMATION CONTACT: Pam Galemore, 202-606-0960, FAX 202-606-2329, TDD (202)606-0023, or by e-mail at pjgalemo@opm.gov.

SUPPLEMENTARY INFORMATION: The Job Training Partnership Act (JTPA), established under Public Law 97-300, October 12, 1982, as amended, required states to provide employment assistance programs to dislocated workers and others as defined in the Act. Since 1995, through Office of Personnel Management regulations published in sections 330.405, 351.803, and 351.807 of title 5, Code of Federal Regulations (CFR), agencies have been required to give employees affected by reduction in force information about JTPA programs in their specific reduction in force notices.

The JTPA was repealed effective July 1, 2000. States are now required to provide placement assistance programs through the Workforce Investment Act (WIA) of 1998, Public Law 105-220, August 7, 1998. This change was incorporated into the reduction in force statute at 5 U.S.C 3502 through Public Law 105-277, Omnibus Consolidated and Emergency Supplemental Appropriations Act, section 405, October 21, 1998.

These revised regulations are issued solely to replace references to the repealed JTPA with its successor statute, the WIA, as required by the amendments to 5 U.S.C. 3502 mandated by Public Law 105-277. No other wording is changed.

Regulatory Flexibility Act

I certify that this regulation will not have a significant economic impact on a substantial number of small entities because it affects only certain Federal employees.

Executive Order 12866, Regulatory Review

This rule has been reviewed by the Office of Management and Budget in accordance with Executive Order 12866.

List of Subjects in 5 CFR Parts 330 and 351

Administrative practice and procedure, Armed forces reserves, Government Employees, Individuals with disabilities.

Office of Personnel Management
Janice R. Lachance,
Director.

Accordingly, the Office of Personnel Management is amending 5 CFR parts 330 and 351 as follows:

PART 330—RECRUITMENT, SELECTION, AND PLACEMENT (GENERAL)

1. The authority citation for part 330 is revised to read as follows:

Authority: 5 U.S.C. 1302, 3301, 3302; E.O. 10577, 3 CFR 1954-58 Comp., p. 218.

Section 330.102 also issued under 5 U.S.C. 3327.

Subpart B also issued under 5 U.S.C. 3315 and 8151.

Section 330.401 also issued under 5 U.S.C. 3310.

Subpart K also issued under sec. 11203 of Pub. L. 105-33, 111 Stat. 738.

Subpart L also issued under sec. 1232 of Pub. L. 96-70, 93 Stat. 452.

Subpart D—Positions Restricted to Preference Eligibles

2. In § 330.405, paragraph (b) is revised to read as follows:

§ 330.405 Agency placement assistance.

* * * * *

(b) Cooperating with State units as designated or created under title I of the Workforce Investment Act of 1998, to retrain displaced preference eligibles for other continuing positions.

PART 351—REDUCTION IN FORCE

3. The authority citation for part 351 continues to read as follows:

Authority: 5 U.S.C. 1302, 3502, 3503; sec. 351.801 also issued under E.O. 12828, 58 FR 2965.

Subpart H—Notice to Employee

4. In § 351.803, paragraphs (a) and (b)(1) are revised to read as follows:

§ 351.803 Notice of eligibility for reemployment and other placement assistance.

(a) An employee who receives a specific notice of separation under this part must be given information concerning the right to reemployment consideration and career transition assistance under subparts B (Reemployment Priority List), F, and G (Career Transition Assistance Programs) of part 330 of this chapter. The employee must also be given a release to authorize, at his or her option, the release of his or her resume and other relevant employment information for employment referral to the State unit or entity established under title I of the Workforce Investment Act of 1998 and potential public or private sector employers. The employee must also be given information concerning how to apply both for unemployment insurance through the appropriate State program and benefits available under the State's Workforce Investment Act of 1998 programs, and an estimate of severance pay (if eligible).

(b) * * *

(1) The State or the entity designated by the State to carry out rapid response activities under title I of the Workforce Investment Act of 1998;

* * * * *

5. In § 351.807, paragraphs (a) and (c) are revised to read as follows:

§ 351.807 Certification of Expected Separation.

(a) For the purpose of enabling otherwise eligible employees to be considered for eligibility to participate in dislocated worker programs under the Workforce Investment Act of 1998 administered by the U.S. Department of Labor, an agency may issue a Certificate of Expected Separation to a competing employee who the agency believes, with a reasonable degree of certainty, will be separated from Federal employment by reduction in force procedures under this part. A certification may be issued up to 6 months prior to the effective date of the reduction in force.

* * * * *

(c) A certification is to be addressed to each individual eligible employee and must be signed by an appropriate agency official. A certification must contain the expected date of reduction in force, a statement that each factor in paragraph (b) of this section has been satisfied, and a description of Workforce Investment Act of 1998, title I, programs, the Interagency Placement Program, and the Reemployment Priority List.

* * * * *

[FR Doc. 00-27515 Filed 10-25-00; 8:45 am]

BILLING CODE 6325-01-P